DEPARTMENT OF JUSTICE

Antitrust Division

Notice Pursuant to the National Cooperative Research and Production Act of 1993—Clean Highly Efficient Decarbonized Engines

Notice is hereby given that, on April 16, 2024, pursuant to section 6(a) of the National Cooperative Research and Production Act of 1993, 15 U.S.C. 4301 et seq. (“the Act”), Clean Highly Efficient Decarbonized Engines (“CHEDE-9”) has filed written notifications simultaneously with the Attorney General and the Federal Trade Commission disclosing changes in its membership. The notifications were filed for the purpose of extending the Act's provisions limiting the recovery of antitrust plaintiffs to actual damages under specified circumstances. Specifically, Convergent Science, Inc., Madison, WI; General Motors, Detroit, MI; Honda Racing Corporation, Santa Clarita, CA; and Tianjin SwARC Automotive Research Laboratory Co., Ltd., Tianjin, PEOPLE'S REPUBLIC OF CHINA, have been added as parties to this venture.

No other changes have been made in either the membership or planned activity of the group research project. Membership in this group research project remains open, and CHEDE-9 intends to file additional written notifications disclosing all changes in membership.

On January 4, 2024, CHEDE-9 filed its original notification pursuant to section 6(a) of the Act. The Department of Justice published a notice in the Federal Register pursuant to section 6(b) of the Act on February 6, 2024 (89 FR 8243).

The last notification was filed with the Department on February 14, 2024. A notice was published in the Federal Register pursuant to section 6(b) of the Act on April 16, 2024 (89 FR 26921).

Suzanne Morris,
Deputy Director Civil Enforcement Operations, Antitrust Division.

[FR Doc. 2024-14308 Filed 6-27-24; 8:45 am]

BILLING CODE P+